DEPARTMENT OF ENERGY

Federal Energy Regulatory Commission

Combined Notice of Filings

Take notice that the Commission has received the following Natural Gas Pipeline Rate and Refund Report filings:

Filings Instituting Proceedings

Docket Numbers: PR25-19-000.

Applicants: Arcadia Gas Storage, LLC.

Description: 284.123 Rate Filing: Arcadia SOC—Revised Contact Information to be effective 12/23/2024.

Filed Date: 11/22/24.

Accession Number: 20241122-5098.

Comment Date: 5 p.m. ET 12/13/24.

Docket Numbers: PR25-20-000.

Applicants: Louisville Gas and Electric Company.

Description: 284.123(g) Rate Filing: Operating Statement Rate Change Revised Exhibit A to be effective 11/1/2024.

Filed Date: 11/22/24.

Accession Number: 20241122-5118.

Comment Date: 5 p.m. ET 12/13/24.

284.123(g) Protest: 5 p.m. ET 1/21/25.

Docket Numbers: RP25-202-000.

Applicants: Florida Gas Transmission Company, LLC.

Description: 4(d) Rate Filing: Interim Fuel Adjustment on 11-22-24 to be effective 12/1/2024.

Filed Date: 11/22/24.

Accession Number: 20241122-5002.

Comment Date: 5 p.m. ET 12/4/24.

Docket Numbers: RP25-203-000.

Applicants: Southern Natural Gas Company, L.L.C.

Description: 4(d) Rate Filing: SNG SCRM Filing 2024 to be effective 1/1/2025.

Filed Date: 11/22/24.

Accession Number: 20241122-5042.

Comment Date: 5 p.m. ET 12/4/24.

Docket Numbers: RP25-204-000.

Applicants: Southern Star Central Gas Pipeline, Inc.

Description: Compliance filing: Annual Cash-Out Activity Report 2024 to be effective N/A.

Filed Date: 11/22/24.

Accession Number: 20241122-5059.

Comment Date:5 p.m. ET 12/4/24.

Docket Numbers: RP25-205-000.

Applicants: Midship Pipeline Company, LLC.

Description: 4(d) Rate Filing: Midship Pipeline Company Fuel Filing to be effective 1/1/2025.

Filed Date: 11/22/24.

Accession Number: 20241122-5078.

Comment Date: 5 p.m. ET 12/4/24.

Docket Numbers: RP25-206-000.

Applicants: Florida Gas Transmission Company, LLC.

Description:4(d) Rate Filing: New Service Agreements—City of Lakeland to be effective 12/1/2024.

Filed Date: 11/22/24.

Accession Number: 20241122-5101.

Comment Date: 5 p.m. ET 12/4/24.

Docket Numbers: RP25-207-000.

Applicants: Florida Gas Transmission Company, LLC.

Description: 4(d) Rate Filing: Update Non-Conforming List—City of Lakeland to be effective 12/1/2024.

Filed Date: 11/22/24.

Accession Number: 20241122-5102.

Comment Date: 5 p.m. ET 12/4/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-73-010.

Applicants: El Paso Natural Gas Company, L.L.C.

Description: Compliance filing: Motion to Place 2025 Settlement Rates Into Effect to be effective 1/1/2025.

Filed Date: 11/21/24.

Accession Number: 20241121-5204

Comment Date: 5 p.m. ET 12/3/24.

Docket Numbers: RP23-1099-005.

Applicants: Gas Transmission Northwest LLC.

Description: Compliance filing: Phase I Settlement Rate Implementation to be effective 4/1/2024.

Filed Date: 11/21/24.

Accession Number: 20241121-5182.

Comment Date: 5 p.m. ET 12/3/24.

Docket Numbers: RP23-1099-006.

Applicants: Gas Transmission Northwest LLC.

Description: Compliance filing: GTN Rate Case Tariff Records Implementation to be effective 11/21/2024.

Filed Date: 11/21/24.

Accession Number: 20241121-5187.

Comment Date: 5 p.m. ET 12/3/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at https://www.ferc.gov/docs-filing/efiling/filing-req.pdf. other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 22, 2024.
Debbie-Anne A. Reese,
Secretary.

[FR Doc. 2024-28093 Filed 11-29-24; 8:45 am]

BILLING CODE 6717-01-P